DEPARTMENT OF THE INTERIOR

Fish and Wildlife Service

Bon Secour National Wildlife Refuge

AGENCY: Fish and Wildlife Service, Department of the Interior.

ACTION: Notice of intent to prepare a Comprehensive Conservation Plan and Environmental Assessment for Bon Secour National Wildlife Refuge, located in Baldwin County, Alabama.

SUMMARY: This notice advises the public that the Fish and Wildlife Service, Southeast Region, intends to gather information necessary to prepare a Comprehensive Conservation Plan and Environmental Assessment for Bon Secour National Wildlife Refuge, pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental document.

DATES: Public scoping meetings will be held in February 2003, with special mailings, newspaper articles, and other media announcements being used to inform people of the opportunities to participate in the meetings and provide input throughout the planning process.

ADDRESSES: Address comments, questions, and requests for more information to the following: Allyne Askins, Project Leader, Bon Secour National Wildlife Refuge, 12295 State Highway 180, Gulf Shores, Alabama 36542; Telephone 251/540-7720; Fax 251/540-7301; e-mail allyne_askins@fws.gov. Additional information concerning the refuge may be found at the refuge's Internet site http://bonsecour.fws.gov/.

SUPPLEMENTARY INFORMATION: By Federal law, all lands within the National Wildlife Refuge System are to be managed in accordance with an approved comprehensive conservation plan. The plan guides management decisions and identifies refuge goals, long-range objectives, and strategies for achieving refuge purposes. The planning process will consider many elements including wildlife and habitat management, public recreational activities, and cultural resource protection. Public input into the planning process is essential.

Bon Secour National Wildlife Refuge was established by Congress in June 1980, and encompasses some of Alabama's last remaining undisturbed coastal barrier habitat. Located 50 miles due west of Pensacola, Florida, and 50 miles southeast of Mobile, Alabama, Bon Secour refuge comprises about 6,700 acres of coastal lands ranging from dynamic beach dunes to pine flatwood and oak hammocks. Management of the refuge is aimed at protecting and preserving these unique habitats and associated wildlife.

Authority: This notice is published under the authority of the National Wildlife Refuge System Improvement Act of 1997, Public Law 105-57.

Dated: December 10, 2002.
Judy L. Pulliam,
Acting Regional Director.

[FR Doc. 03-1071 Filed 1-16-03; 8:45 am]

BILLING CODE 4310-55-M